NUCLEAR REGULATORY COMMISSION

[Docket Nos. 50-272 and 50-311; NRC-2009-0390]

PSEG Nuclear, LLC, Salem Nuclear Generating Station, Units 1 and 2; Notice of Issuance of Renewed Facility Operating License Nos. DPR-70 and DPR-75 for an Additional 20-Year Period

Notice is hereby given that the U.S. Nuclear Regulatory Commission (the Commission) has issued Renewed Facility Operating License Nos. DPR-70 and DPR-75 to PSEG Nuclear LLC (the licensee), the operator of the Salem Nuclear Generating Station, Units 1 and 2 (Salem). Renewed Facility Operating License Nos. DPR-70 and DPR-75 authorize the licensee to operate Salem at reactor core power levels not in excess of 3,459 megawatts thermal in accordance with the provisions of the Salem renewed license and its technical specifications.

The notice also serves as the record of decision for the renewal of Facility Operating License Nos. DPR-70 and DPR-75, consistent with Title 10 of the Code of Federal Regulations (10 CFR) 51.103, “Record of Decision—General.” As discussed in the final supplemental environmental impact statement for Salem (NUREG-1437, Supplement 45, “Generic Environmental Impact Statement for License Renewal of Nuclear Plants, Supplement 45, Regarding Hope Creek Generating Station and Salem Nuclear Generating Station, Units 1 and 2, Final Report,” issued March 2011), the Commission has considered a range of reasonable alternatives that included generation from coal-fired generation, natural gas combined-cycle generation, a combined alternative, and the no-action alternative. The factors considered in the record of decision can be found in the supplemental environmental impact statement for Salem.

Salem's units are pressurized-water reactors located in Lower Alloways Creek Township, Salem County, NJ. The application for the renewed license complied with the standards and requirements of the Atomic Energy Act of 1954, as amended (the Act), and the Commission's regulations. As required by the Act and the Commission's regulations in 10 CFR Chapter I, “Nuclear Regulatory Commission,” the Commission has made appropriate findings, which are set forth in the license. Prior public notice of the action involving the proposed issuance of the renewed license and of an opportunity for a hearing regarding the proposed issuance of the renewed license was published in the Federal Register on October 23, 2009 (74 FR 54854).

For further details with respect to this action, see (1) PSEG Nuclear LLC's license renewal application for Salem Nuclear Generating Station, Units 1 and 2, dated August 18, 2009, as supplemented by letters dated through May 18, 2011, (2) the Commission's safety evaluation report (NUREG-2101, “Safety Evaluation Report Related to the License Renewal of the Salem Nuclear Generating Station,” issued June 2011), (3) the licensee's updated safety analysis report, and (4) the Commission's final environmental impact statement (NUREG-1437, Supplement 45), for Salem, published in March 2011. These documents are available at the NRC's Public Document Room, One White Flint North, 11555 Rockville Pike, Rockville, MD 20852, and are available online in the NRC Library at http://www.nrc.gov/reading-rm.html.

Copies of Renewed Facility Operating License Nos. DPR-70 and DPR-75 may be obtained by writing to the U.S. Nuclear Regulatory Commission, Washington, DC 20555-0001, Attention: Director, Division of License Renewal. Copies of the safety evaluation report for Salem (NUREG-2101) and the final environmental impact statement (NUREG-1437, Supplement 45) may be purchased from the National Technical Information Service, U.S. Department of Commerce, Springfield, VA 22161 (http://www.ntis.gov), 703-605-6000, or Attention: Superintendent of Documents, U.S. Government Printing Office, P.O. Box 371954, Pittsburgh, PA 15250-7954 (http://www.gpoaccess.gov), 202-512-1800. All orders should clearly identify the NRC publication number and the requestor's Government Printing Office deposit account number or VISA or MasterCard number and expiration date.

Dated at Rockville, Maryland, this 30th day of June, 2011.
For the Nuclear Regulatory Commission.
Bo M. Pham,
Chief, Projects Branch 1, Division of License Renewal, Office of Nuclear Reactor Regulation.

[FR Doc. 2011-17443 Filed 7-11-11; 8:45 am]

BILLING CODE 7590-01-P